ENVIRONMENTAL PROTECTION AGENCY

[ER-FRL-6642-5]

Environmental Impact Statements; Notice of Availability

Responsible Agency: Office of Federal Activities, General Information (202) 564-7167 or http://www.epa.gov/compliance/nepa/.

Weekly receipt of Environmental Impact Statements

Filed July 21, 2003 through July 25, 2003

Pursuant to 40 CFR 1506.9.

EIS No. 030341, Draft EIS, IBR, CA, Lower Santa Ynez River Fish Management Plan and Cachuma Project, Biological Opinion for Southern Steelhead Trout, To Improve Habitat Conditions for the Endangered Southern Steelhead, Santa Barbara County, CA, Comment Period Ends: September 15, 2003, Contact: David Young (559) 487-5127.

EIS No. 030342, Draft EIS, NOA, Atlantic Tunas, Swordfish, and Sharks Fishery Management Plan, To Prevent Overfishing and Rebuild Overfished Species, Update Essential Fish Habitat, Atlantic, Gulf of Mexico and Caribbean Sea, Comment Period Ends: September 23, 2003, Contact: Christopher Rogers (301) 713-2347.

EIS No. 030343, Final EIS, AFS, UT, Duck Creek—Swains Access (Duck/Swains), Management Project, Wildlife Habitat, Soil and Watershed Conditions and Motorized Vehicle Use Management Improvements, Dixie National Forest, Cedar City Ranger District, Iron, Garfield and Kane Counties, UT, Wait Period Ends: September 2, 2003, Contact: Ronald S. Wilson (435) 865-3200.

EIS No. 030344, Final EIS, AFS, AK, Finger Mountain Timber Sales, Timber Harvesting, Implementation, U.S. Coast Guard, NPDES and COE Section 10 and 404 Permits, Tongass National Forest, Sitka Ranger District, AK, Wait Period Ends: September 2, 2003, Contact: Rick Abt (907) 747-4226.

EIS No. 030345, Final EIS, AFS, WA, Gardin—Taco Ecosystem Restoration Projects, Implementation, Vegetative Restoration, Road Closures, and Decommissioning, and other Road Improvements, Colville National Forest, Newport Ranger District, Pend Oreille and Stevens Counties, WA, Wait Period Ends: September 2, 2003, Contact: Lynn Kaney (509) 447-7300.

EIS No. 030346, Final EIS, FHW, WV, New River Parkway Project, Design, Construction and Management, between I-64 Interchanges to Hinton, Raleigh and Summers Counties, WV, Wait Period Ends: September 19, 2003, Contact: Greg Akers (304) 558-2885.

EIS No. 030347, Draft EIS, NRS, OK, Cavalry Creek Watershed Supplemental Plan for Floodwater Retarding Structure No. 6, Washita River Basin, Washita County, OK, Comment Period Ends: September 15, 2003, Contact: M. Darrel Dominick (405) 742-1206.

EIS No. 030348, Draft EIS, IBR, CA, Mendota Pool 10-Year Exchange Agreements, To Provide Water to Irrigable Lands, Central Valley Project Improvement (CVPIA), Fresno and Madera Counties, CA, Comment Period Ends: September 30, 2003, Contact: David Young (559) 487-5127. This document is available on the Internet at: http://www.usbr.gov or http://www.entrix.com.

EIS No. 030349, Draft EIS, NOA, PR, VI, Generic Essential Fish Habitat Amendment To: Spiny Lobster, Queen Conch, Reef Fish and Coral Fishery Management Plans, Implementation, U.S. Caribbean, Extending to U.S. Exclusive Economic Zone (NEZ), Virgin Islands and Puerto Rico, Comment Period Ends: October 30, 2003, Contact: David Dale (727) 570-5317.

EIS No. 030350, Final EIS, BLM, ID, North Rasmussen Ridge Mine, Agrium Conda Phosphate Operations, Proposal to Extend the Existing Mining Operations, Federal Phosphate Leases I-04375 and I-07619 within the Caribou-Targhee National Forest, and State Lease I-9313, Soda Springs, Caribou County, ID, Wait Period Ends: September 2, 2003, Contact: Wendell Johnson (208) 478-6353.

EIS No. 030351, Final EIS, JUS, CA, 14-Mile Border Infrastructure System Completion along the United States and Mexico Border, Areas I, V and VI, Pacific Ocean to just east of Tin Can Hill, San Diego County, CA, Wait Period Ends: September 2, 2003, Contact: Kevin Feeney (202) 353-9412.

EIS No. 030352, Second Draft EIS (TIERING) FHW, MI, MI-59 Livingston County Widening Project, between I-96 and U.S. 23, Practical Alternative and a No Build Alternative for Consideration in the Right-of-Way Preservation Corridor, Funding, NPDES and U.S. Army COE Section 404 Permits Issuance, Livingston County, MI, Comment Period Ends: September 15, 2003, Contact: Abdelmoez Abdalla (517) 702-1820.

EIS No. 030353, Draft EIS, USA, LA, 2nd Armored Cavalry Regiment Transformation and Installation Mission Support, Joint Readiness Training Center (JRTC) Stryker Brigade Combat Team, Long-Term Military Training Use of Kisatchie National Forest Lands, Fort Polk, LA, Comment Period Ends: September 15, 2003, Contact: Stacy Basham-Wagner (337) 531-7458.

Amended Notices

EIS No. 030194, Draft EIS, AFS, SD, Sioux Ranger District Oil and Gas Leasing Project, Implementation, Sioux Ranger District, Custer National Forest, Harding County, SD, Comment Period Ends: August 7, 2003, Contact: Laurie Waters-Clark (605) 707-4432. Revision of FR Notice Published on 5/9/2003: CEQ Comment Period Ending 7/8/2003 has been Extended to 8/7/2003.

EIS No. 030283, Draft EIS, AFS, ID, North End Sheep Allotment Management Plan (AMP) Revision, Proposal to Authorize Continued Livestock Use, Caribou-Targhee National Forest, Soda Springs Ranger District, Caribou and Bonneville Counties, ID, Comment Period Ends: August 18, 2003, Contact: Derek Hinckley (208) 547-4356. Revision of FR Notice Published on 6/20/2003: CEQ Comment Period Ending on 8/4/2003 has been Extended to 8/18/2003.

Dated: July 28, 2003.
Joseph C. Montgomery,
Director, NEPA Compliance Division, Office of Federal Activities.

[FR Doc. 03-19641 Filed 7-31-03; 8:45 am]

BILLING CODE 6560-50-P